FEDERAL COMMUNICATIONS COMMISSION

47 CFR Part 64

[CC Docket No. 94-129; FCC 00-255 and FCC 01-67]

Implementation of the Subscriber Carrier Selection Changes Provisions of the Telecommunications Act of 1996, Policies and Rules Concerning Unauthorized Changes of Consumers Long Distance Carriers

AGENCY: Federal Communications Commission.

ACTION: Final rule; correction.

SUMMARY: This document contains corrections to the final regulations that were published in the Federal Register on March 1, 2001, (66 FR 12877). The regulations were adopted to implement the slamming provisions of the Communications Act of 1934, as amended by the Telecommunications Act of 1996.

DATES: This document contains information collection requirements that have not yet been approved by the Office of Management Budget (OMB). The Commission will publish a document in the Federal Register announcing the effective date of this section.

FOR FURTHER INFORMATION CONTACT: Dana Walton-Bradford, Attorney, Accounting Policy Division, Common Carrier Bureau (202) 418-7400.

SUPPLEMENTARY INFORMATION: The Federal Communications Commission (Commission) published a summary of the Commission's Third Report and Order and Second Order on Reconsideration (Third Report and Order) in CC Docket No. 94-129, which was released on August 15, 2000. This summary also contained amendments and modifications to the Third Report and Order that were adopted in an Order released on February 22, 2001. As published, the final regulations contain errors that need to be corrected.

In the final rule, FR Doc. 01-4794, published on March 1, 2001, (66 FR 12877), make the following corrections:

§ 64.1130 [Corrected]

1. On page 12893, in the first column, in amendatory instruction 3, line 3, correct “(e)(4)” to read “(e)(5)”.

2. On the same page, in the second column, line 24, correct “(4)” to read “(5)”.

Federal Communications Commission.
Magalie Roman Salas,
Secretary.

[FR Doc. 01-6785 Filed 3-22-01; 8:45 am]

BILLING CODE 6712-01-U